SECURITIES AND EXCHANGE COMMISSION

Sunshine Act Meeting

Notice is hereby given, pursuant to the provisions of the Government in the Sunshine Act, Public Law 94-409, that the Securities and Exchange Commission will hold its second field hearing to examine the municipal securities markets on Tuesday, December 7, 2010 at 9 a.m.

The hearing will include panel discussions focusing on market stability and liquidity, investor impact, self-regulation, accounting and Build America Bonds.

The panel discussion and presentations will take place in the Auditorium of the Commission's headquarters at 100 F Street, NE., Washington, DC and will be open to the public with seating on a first-come, first-served basis. Visitors will be subject to security checks. The hearing also will be webcast live at http://www.sec.gov.

For further information, please contact the Office of the Secretary at (202) 551-5400.

Dated: November 29, 2010.
Elizabeth M. Murphy,
Secretary.

[FR Doc. 2010-30321 Filed 11-30-10; 11:15 am]

BILLING CODE 8011-01-P